DEPARTMENT OF TRANSPORTATION

Federal Aviation Administration

14 CFR Part 71

[Airspace Docket No. 00-ASO-10]

Amendment of Class E Airspace; Savannah, GA

AGENCY: Federal Aviation Administration (FAA), DOT.

ACTION: Final rule.

SUMMARY: This action amends Class E surface area airspace at Savannah, GA. Hunter Army Air Field (AAF) is included in the Savannah Class D surface airspace area. However, when Hunger AAF control tower closes that segment of the Class D airspace area reverts to Class G airspace, as there is no remote communications to either Savannah Approach Control or Jacksonville Air Route Traffic Control Center (ARTCC) to control aircraft at Hunter AAF. Remote communications equipment is being installed and will be operational by October 5, 2000. Therefore, the airport will meet the criteria of Class E airspace designated as surface area on October 5, 2000. Additional controlled airspace extending upward from the surface is needed to accommodate instrument flight rules (IFR) operations at Hunter AAF when Hunter AAF control tower is closed. This action also makes a technical amendment to the name of the location, changing it from Savannah International Airport, GA, to Savannah, GA.

EFFECTIVE DATE: 0901 UTC, October 5, 2000.

FOR FURTHER INFORMATION CONTACT: Nancy B. Shelton, Manager, Airspace Branch, Air Traffic Division, Federal Aviation Administration, P.O. Box 20636, Atlanta, Georgia 30320; telephone (404) 305-5627.

SUPPLEMENTARY INFORMATION:

History

On May 5, 2000, the FAA proposed to amend part 71 of the Federal Aviation Regulations (14 CFR part 71) by amending Class E airspace at Savannah, GA (65 FR 26156). This action will provide Class E airspace designated as surface area to accommodate IFR operations at Hunter AAF when Hunter AAF control tower is closed. Class E airspace designations are published in Paragraph 6002 of FAA Order 7400.9G, dated September 1, 1999, and effective September 16, 1999, which is incorporated by reference in 14 CFR 71.1, dated September 1, 1999. The Class E airspace designations listed in this document will be published subsequently in the Order.

Interested parties were invited to participate in this rulemaking proceeding by submitting written comments on the proposal to the FAA. No comments objecting to the proposal were received.

The Rule

This amendment to Part 71 of the Federal Aviation Regulations (14 CFR part 71) amends Class E airspace at Savannah, GA for Hunter AAF. This action also makes a technical amendment to the name of the location, changing it from Savannah International Airport, GA, to Savannah, GA.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D AND CLASS E AIRSPACE AREAS; AIRWAYS; ROUTES; AND REPORTING POINTS

1. The authority citation for 14 CFR part 71 continues to read as follows:

Authority: 49 U.S.C. 106(g); 40103; 40113; 40120, EO 10854, 24 FR 9565, 3 CFR, 1959-11963 Comp., p. 389; 14 CFR 11.69.

§ 71.1 [Amended]

2. The incorporation by reference in 14 CFR 71.1 of Federal Aviation Administration Order 7400.9G, Airspace Designations and Reporting Points, dated September 1, 1999, and effective September 16, 1999, is amended as follows:

Paragraph 6002 Class E Airspace Designated as Surface Areas.

* * * * *

ASO GA E2 Savannah, GA [Revised]

Hunter AAF

(Lat. 32°00′35″N, long. 81°08′44″ W)

Savannah International Airport

(Lat. 32°07′39″N, long. 81°12′08″ W)

Within a 5-mile radius of Savannah International Airport and within a 4.5-mile radius of Hunter AAF. This Class E airspace area is effective during the specific dates and times established in advance by a Notice to Airmen. The effective date and time will thereafter be continuously published in the Airport/Facility Directory.

* * * * *

Issued in College Park, Georgia, on July 21, 2000.
Wade T. Carpenter,
Acting Manager, Air Traffic Division, Southern Region.

[FR Doc. 00-19518 Filed 8-1-00; 8:45 am]

BILLING CODE 4910-13-M